PEACE CORPS

Information Collection Request Submission for OMB Review

AGENCY: Peace Corps.

ACTION: 60-day notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995 (44 U.S.C. Chapter 35).

DATES: Submit comments on or before October 3, 2014.

ADDRESSES: Comments should be addressed to Denora Miller, FOIA/Privacy Act Officer. Denora Miller can be contacted by telephone at 202-692-1236 or email at pcfr@peacecorps.gov. Email comments must be made in text and not in attachments.

FOR FURTHER INFORMATION CONTACT: Denora Miller at Peace Corps address above.

SUPPLEMENTARY INFORMATION: The Peace Corps Response Volunteer Application form is necessary to recruit qualified volunteers to serve in Peace Corps Response, which sends Volunteers throughout the world to work in specialized short term projects. Applicants are selected based on their qualifications for a specific Volunteer assignment.

OMB Control Number: 0420-0547.

Title: Peace Corps Response Volunteer Application Form.

Type of Review: Revision of a currently approved collection.

Affected Public: Individuals.

Respondents' Obligation To Reply: Voluntary.

Burden to the Public:

a. Number of Respondents: 1,500.

b. Frequency of response: One time.

c. Completion time: 60 minutes.

d. Annual burden hours: 1,500.

General Description of Collection: The information collected in the Peace Corps Response Volunteer Application is used by Peace Corps Response staff to perform initial screening for potential candidates for Peace Corps Response assignments. Applications contain basic information concerning technical skills and eligibility for Peace Corps Response assignments.

Request for Comment: Peace Corps invites comments on whether the proposed collection of information is necessary for proper performance of the functions of the Peace Corps, including whether the information will have practical use; the accuracy of the agency's estimate of the burden of the proposed collection of information, including the validity of the information to be collected; and ways to minimize the burden of the collection of information on those who are to respond, including through the use of automated collection techniques, when appropriate, and other forms of information technology.

This notice issued in Washington, DC, on July 29, 2014.
Dated: July 29, 2014.
Denora Miller,
FOIA/Privacy Act Officer, Management.

[FR Doc. 2014-18292 Filed 8-1-14; 8:45 am]

BILLING CODE 6051-01-P